NUCLEAR REGULATORY COMMISSION

[Docket No. 50-247]

Consolidated Edison Company of New York, Inc.; Indian Point Nuclear Generating Unit No. 2; Issuance of Director's Decision Under 10 CFR 2.206

By letter dated March 14, 2000, Mr. David A. Lochbaum, on behalf of the Union of Concerned Scientists, the Nuclear Information & Resource Service, the PACE Law School Energy Project, and Public Citizen's Critical Mass Energy Project (Petitioners), pursuant to Section 2.206 of Title 10 of the Code of Federal Regulations (10 CFR 2.206), requested that the U.S. Nuclear Regulatory Commission (Commission or NRC) take action with regard to the Indian Point Nuclear Generating Unit No. 2, (IP2), owned and operated by the Consolidated Edison Company of New York, Inc. (Con Ed). The Petitioners requested that the NRC issue an order to the licensee preventing the restart of IP2, or modifying the license for IP2 to limit it to zero power, until (1) all four steam generators are replaced, (2) the steam generator tube integrity concerns identified in Dr. Joram Hopenfeld's differing professional opinion (DPO) and in Generic Safety Issue 163 (GSI-163) are resolved, and (3) potassium iodide tablets are distributed to residents and businesses within the 10-mile emergency planning zone (EPZ) or stockpiled in the vicinity of IP2. (The DPO process provides for the review of concerns raised by individual NRC employees who disagree with a position adopted by the NRC staff.)

In a letter dated April 5, 2000, the Acting Director of the Office of Nuclear Reactor Regulation acknowledged receipt of the Petition of March 14, 2000. In the April 5, 2000, letter, the Petitioners were informed that the request concerning replacement of the IP2 steam generators met the criteria for review under 10 CFR 2.206, but the staff had determined that the request relating to the resolution of the concerns raised in Dr. Hopenfeld's DPO and GSI-163 and distribution or stockpiling of potassium iodide tablets did not meet the criteria for review under 10 CFR 2.206. The basis for this determination was that they raise generic issues for which the Petitioners had not provided sufficient facts specific to IP2 restart to support their request. However, as a result of information provided at an April 7, 2000, meeting, and a supplement to their Petition dated April 12, 2000, the staff determined that the request that the NRC issue an order to prevent Con Ed from restarting IP2, or modify the license for IP2 to limit it to zero power, until potassium iodide tablets are distributed to people and businesses within the 10-mile EPZ or stockpiled in the vicinity of IP2 met the criteria of 10 CFR 2.206. However, the additional information provided in a supplement dated April 14, 2000, still did not provide plant-specific information necessary to consider Dr. Hopenfeld's DPO under the 2.206 process. The Petitioners were informed of these determinations in a letter dated June 26, 2000. In letters dated June 12, June 29, and July 13, 2000, the Petitioners further supplemented the Petition. In the June 12, 2000, supplement, it was requested that IP2 not be allowed to restart until concerns identified in an internal Federal Emergency Management Agency (FEMA) memorandum dated May 12, 2000, were addressed. In the July 13, 2000, supplement, the Petitioners requested reinstatement of their request that Dr. Hopenfeld's DPO be resolved prior to allowing IP2 to restart. In a letter dated August 31, 2000, the Petitioners were informed that neither of these issues met the criteria for review under 10 CFR 2.206, and indicated the basis for that determination.

In the June 29, 2000, letter, the Petitioners stated that 10 CFR Part 50, Appendix E requires each licensee at each site to conduct a full participation biennial exercise. Since the two nuclear units at the Indian Point site are owned by different licensees, the Petitioners stated that the regulations would require each licensee to conduct a full-participation exercise every 2 years. This issue was accepted for review under 10 CFR 2.206, as stated in a letter dated August 31, 2000.

The Director of the Office of Nuclear Reactor Regulation has addressed the technical concerns provided by the Petitioner. The licensee prepared and submitted to the NRC for staff review an extensive operational assessment. However, since the licensee voluntarily made the decision to replace the IP2 steam generators prior to plant restart, there was no need to complete a review of the ConEd report for the purpose of determining whether the plant could restart and operate with the existing steam generators. Therefore, the intent of this part of the Petition was, in effect, granted. The NRC and Federal Emergency Management Agency have concluded that the onsite and offsite emergency plans for IP2, including the provisions for potassium iodide, provide reasonable assurance that appropriate protective measures can be taken to protect the health and safety of the public in the event of a radiological emergency at the site. Therefore, there is no basis to order the licensee to take additional measures to distribute or stockpile potassium iodide tablets in the vicinity of IP2. Finally, the NRC staff has determined that the full-participation exercise conducted by IP2 on June 24, 1998, met the biennial requirement for both onsite and offsite participation. Therefore, these two requests are not granted. The complete explanation of the staff's conclusions is contained in the “Director's Decision Pursuant to 10 CFR 2.206” (DD-00-04).

The complete text of the Director's Decision is available for public inspection at the Commission's Public Document Room, located at One White Flint North, 11555 Rockville Pike (first floor), Rockville, Maryland, and will be accessible electronically from the agencywide documents access and management system (ADAMS) public library component on the NRC web site, http://www.nrc.gov (the electronic reading room).

A copy of the Decision will be filed with the Secretary of the Commission for the Commission's review in accordance with 10 CFR 2.206(c) of the Commission's regulations. As provided for by this regulation, the Decision will constitute the final action of the Commission 25 days after the date of issuance of the Decision unless the Commission, on its own motion, institutes a review of the Decision within that time.

Dated at Rockville, Maryland, this 6th day of October 2000.
For the Nuclear Regulatory Commission.
Samuel J. Collins,
Director, Office of Nuclear Reactor Regulation.

[FR Doc. 00-26338 Filed 10-12-00; 8:45 am]

BILLING CODE 7590-01-P